DEPARTMENT OF COMMERCE

International Trade Administration

[A-570-924]

Polyethylene Terephthalate Film, Sheet, and Strip From the People's Republic of China: Extension of Time Limit for the Final Results of the Antidumping Duty Administrative Review

AGENCY: Import Administration, International Trade Administration, Department of Commerce.

DATES: Effective Date: November 15, 2010.

FOR FURTHER INFORMATION CONTACT: Thomas Martin, AD/CVD Operations, Office 4, Import Administration, International Trade Administration, Department of Commerce, 14th Street and Constitution Avenue, NW., Washington, DC 20230; telephone: (202) 482-3936.

Background

On December 23, 2009, Department of Commerce (“Department”) published the notice of the initiation of the antidumping duty administrative review on polyethylene terephthalate film, sheet, and strip from the People's Republic of China (“PRC”), covering the period November 6, 2008, through October 31, 2009. See Initiation of Antidumping and Countervailing Duty Administrative Reviews and Request for Revocation in Part, 74 FR 68229 (December 23, 2009).

On August 16, 2010, the Department published the preliminary results of this review. See Polyethylene Terephthalate Film, Sheet, and Strip From the People's Republic of China: Preliminary Results and Preliminary Rescission, in Part, of Antidumping Duty Administrative Review, 75 FR 49893 (August 16, 2010). The final results are currently due on December 14, 2010.

Extension of Time Limits for Final Results

Section 751(a)(3)(A) of the Tariff Act of 1930, as amended (“Act”), requires the Department to issue the final results in an administrative review of an antidumping duty order 120 days after the date on which the preliminary results are published. The Department may, however, extend the deadline for completion of the final results of an administrative review to 180 days if it determines it is not practicable to complete the review within the foregoing time period. The Department may extend the time for the final results without extending the time for the preliminary results, if such final results are made not later than 300 days after the date on which the preliminary results are published. See section 751(a)(3)(A) of the Act and 19 CFR 351.213(h)(2).

The Department requires additional time to complete this review because the Department recently issued a revision of the valuation of the labor rate for the final results of the administrative review using a simple average industry-specific wage rate. The Department must analyze and consider significant issues raised in the parties' comments and post-preliminary submissions. Thus, it is not practicable to complete this review by the current due date. Therefore, we are extending the time for the completion of the final results of this review by an additional 60 days to February 12, 2011.¹

¹ As the 60-day extension falls on Saturday, February 12, 2011, the deadline for the final results of review will be the next business day, which is February 14, 2011.

This notice is published in accordance with sections 751(a)(1) and 777(i)(1) of the Act.

Dated: November 8, 2010.
Susan H. Kuhbach,
Acting Deputy Assistant Secretary for Antidumping and Countervailing Duty Operations.

[FR Doc. 2010-28674 Filed 11-12-10; 8:45 am]

BILLING CODE 3510-DS-P